NUCLEAR REGULATORY COMMISSION

[Docket No. 40-8943-MLA-2; ASLBP No. 13-926-01-MLA-BD01]

Atomic Safety and Licensing Board Panel; Before the Licensing Board: G. Paul Bollwerk, III, Chairman, Dr. Richard E. Wardwell, Dr. Thomas J. Hirons; Crow Butte Resources, Inc. (Marsland Expansion Area); Memorandum and Order (Notice of Hearing)

May 16, 2013.

This proceeding concerns the May 16, 2012 application of Crow Butte Resources, Inc., (CBR) to amend its 10 CFR part 40 source materials license that authorizes the operation of CBR's existing in situ uranium recovery (ISR) facility near Crawford, Nebraska. If issued by the Nuclear Regulatory Commission (NRC), the requested amendment would permit CBR to operate a satellite ISR facility, the Marsland Expansion Area (MEA) site, which is located in Dawes County, Nebraska, some eleven miles to the southeast of CBR's Crawford central processing facility. In response to a November 26, 2012 NRC hearing opportunity notice regarding this application, see [CBR], License SUA-1534, License Amendment to Construct and Operate [MEA], 77 FR 71,454 (Nov. 30, 2012), petitioner Oglala Sioux Tribe (OST) and petitioners Antonia Loretta Afraid of Bear Cook, Bruce McIntosh, Debra White Plume, Western Nebraska Resources Council, and Aligning for Responsible Mining, referred to jointly as the Consolidated Petitioners, filed timely requests for hearing/petitions for leave to intervene contesting the CBR ISR amendment application. On February 6, 2013, this three-member Atomic Safety and Licensing Board was established to preside over this proceeding. See [CBR], Establishment of Atomic Safety and Licensing Board, 78 FR 9945 (Feb. 12, 2013). Thereafter, in a May 10, 2013 issuance, while concluding that none of the Consolidated Petitioners had established the requisite standing to intervene in this proceeding, the Board also found that OST had demonstrated its standing and had submitted two admissible contentions concerning the CBR application and so admitted OST as a party to this proceeding. See LBP-13-6, 77 NRC __ (May 10, 2013).

In light of the foregoing, please take notice that a hearing will be conducted in this proceeding. The hearing will be governed by the simplified hearing procedures set forth in 10 CFR part 2, subparts C and L, 10 CFR 2.300-2.390, 2.1200-2.1213.

During the course of this proceeding, the Board may conduct an oral argument, as provided in 10 CFR 2.331; may hold additional prehearing conferences pursuant to 10 CFR 2.329; and may conduct evidentiary hearings in accordance with 10 CFR 2.327-2.328, 2.1206-2.1208. The public is invited to attend any oral argument, prehearing conference, or evidentiary hearing. Notices of those sessions will be published in the Federal Register and/or made available to the public at the NRC Public Document Room (PDR), located at One White Flint North, 11555 Rockville Pike (first floor), Rockville, Maryland, and through the NRC Web site, www.nrc.gov.

Additionally, as provided in 10 CFR 2.315(a), any person not a party to the proceeding may submit a written limited appearance statement. Limited appearance statements, which are placed in the docket for this proceeding, provide members of the public with an opportunity to make the Board and/or the participants aware of their concerns about any matters at issue in the proceeding, particularly any concerns associated with the admitted contentions. A written limited appearance statement can be submitted at any time and should be sent to the Office of the Secretary using one of the methods prescribed below:

Mail to: Office of the Secretary, Rulemakings and Adjudications Staff, U.S. Nuclear Regulatory Commission, Washington, DC 20555-0001.

Fax to: (301) 415-1101 (verification (301) 415-1966).

Email to: hearing.docket@nrc.gov.

In addition, a copy of the limited appearance statement should be sent to the Licensing Board Chairman using the same method at the address below:

Mail to: Administrative Judge G. Paul Bollwerk, III, Atomic Safety and Licensing Board Panel, Mail Stop T-3F23, U.S. Nuclear Regulatory Commission, Washington, DC 20555-0001.

Fax to: (301) 415-5599 (verification (301) 415-7550).

Email to: paul.bollwerk@nrc.gov.

Further, at a later date, the Board may conduct oral limited appearance sessions regarding this ISR proceeding at a location, or locations, in the vicinity of the MEA site. If one or more limited appearance sessions are scheduled, notice will be published in the Federal Register and/or made available to the public at the NRC PDR and on the NRC Web site, www.nrc.gov.

Documents relating to this proceeding are available for public inspection at the Commission's PDR or electronically from the publicly available records component of NRC's Agencywide Documents Access and Management System (ADAMS). ADAMS, including its adjudicatory proceeding-related Electronic Hearing Docket, is accessible from the NRC Web site at www.nrc.gov/reading-rm/adams.html (the Public Electronic Reading Room). Persons who do not have access to ADAMS, or who encounter problems in accessing the documents located in ADAMS, should contact the NRC PDR reference staff by telephone at 1-800-397-4209, 301-415-4737, or by email to pdr.resource@nrc.gov.

It is so ordered.

Dated: May 16, 2013, Rockville, Maryland.
For the Atomic Safety and Licensing Board.
G. Paul Bollwerk, III,
Chairman, Administrative Judge.

[FR Doc. 2013-12494 Filed 5-24-13; 8:45 am]

BILLING CODE 7590-01-P